DEPARTMENT OF ENERGY

Unconventional Resources Technology Advisory Committee

AGENCY: Office of Fossil Energy, Department of Energy.

ACTION: Notice of open meeting.

SUMMARY: This notice announces a meeting of the Unconventional Resources Technology Advisory Committee. The Federal Advisory Committee Act (Pub. L. 92-463, 86 Stat. 770) requires that public notice of this meeting be announced in the Federal Register.

DATES: Tuesday, February 28, 2012, 8 a.m.-5 p.m. (CST) and Wednesday, February 29, 2012, 8 a.m.-12 p.m. (CST).

ADDRESSES: Houston Airport Marriott, 18700 John F. Kennedy Boulevard, Houston, Texas 77032.

FOR FURTHER INFORMATION CONTACT: Elena Melchert, U.S. Department of Energy, Office of Oil and Natural Gas, Washington, DC 20585. Phone: (202) 586-5600.

SUPPLEMENTARY INFORMATION: Purpose of the Committee: The purpose of the Unconventional Resources Technology Advisory Committee is to provide advice on development and implementation of programs related to onshore unconventional natural gas and other petroleum resources to the Secretary of Energy; and provide comments and recommendations and priorities for the Department of Energy Annual Plan per requirements of the Energy Policy Act of 2005, Title IX, Subtitle J, Section 999D.

Tentative Agenda

February 28, 2012

7:30 a.m. Registration

8 a.m. Welcome & Introductions, Opening Remarks, Discussion of Subcommittee Reports

Noon Working Lunch

1 p.m. Findings regarding the Draft 2012 Annual Plan

4:45 p.m. Public Comments, if any

5 p.m. Adjourn

February 29, 2012

7:30 a.m. Registration

8 a.m. Discussion of Recommendations regarding the Draft 2012 Annual Plan

12 p.m. Adjourn

Public Participation: The meeting is open to the public. If you would like to file a written statement with the Committee, you may do so either before or after the meeting. If you would like to make oral statements regarding any of the items on the agenda, you should contact Elena Melchert at the telephone number listed above. You must make your request for an oral statement at least three business days prior to the meeting, and reasonable provisions will be made to include all who wish to speak. The Designated Federal Officer and the Chairman of the Committee will conduct the meeting to facilitate the orderly conduct of business. Public comment will follow the three-minute rule.

Minutes: The minutes of this meeting will be available for public review and copying within 60 days at the following Web site: http://www.fossil.energy.gov/programs/oilgas/advisorycommittees/UnconventionalResources.html.

Issued at Washington, DC, on January 27, 2012.
LaTanya Butler,
Acting Deputy Committee Management Officer.

[FR Doc. 2012-2316 Filed 2-1-12; 8:45 am]

BILLING CODE 6450-01-P